DEPARTMENT OF HOMELAND SECURITY

Coast Guard

33 CFR Part 165

[Docket No. USCG-2024-0444]

Annual Firework Displays and Other Events in the Eighth Coast Guard District Requiring Safety Zones

AGENCY: Coast Guard, DHS.

ACTION: Notification of enforcement of regulation.

SUMMARY: The Coast Guard will enforce regulations for annual fireworks display in the Eighth Coast Guard District to provide for the safety of life on navigable waterways on July 4, 2024. Our regulation for annual fireworks displays within the Eighth Coast Guard District identifies the regulated area for this event (Red, White, Blue, and You Fireworks Display/City of Lake Charles) in Lake Charles, LA. Entry of vessels or persons into this zone is prohibited unless specifically authorized by the Captain of the Port, Marine Safety Unit Port Arthur.

DATES: The regulations in 33 CFR 165.801 will be enforced for Lake Charles Red, White, Blue, and You in Table 3 to § 165.801, Item number 7 from 9 to 10 p.m. on July 4, 2024.

FOR FURTHER INFORMATION CONTACT: If you have questions about this notification of enforcement, call or email Lieutenant Mache Mason, U.S. Coast Guard; telephone 337-912-0073, email msulcwwm@uscg.mil.

SUPPLEMENTARY INFORMATION: The Coast Guard will enforce regulations in 33 CFR 165.801 for the Red, White, Blue, and You Fireworks Display/City of Lake Charles safety zone from 9 to 10 p.m. on July 4, 2024. This action is being taken due to the potential hazards associated with the fireworks display at this location that are a safety concern for spectator craft and vessels in the vicinity of the designated fireworks launch location. Table 3 of § 165.801, Item number 7 specifies the approximate location of the safety zone, which is in Lake Charles, LA. As provided in paragraph (a) of § 165.801, entry into this zone is prohibited unless authorized by the Captain of the Port or a designated representative. In addition to this notification of enforcement in the Federal Register, the Coast Guard plans to provide notification of this enforcement period via local notice to mariners and marine information broadcasts.

Dated: June 18, 2024.
A.R. Migliorini,
Captain, U.S. Coast Guard, Captain of the Port Marine Safety Unit Port Arthur.

[FR Doc. 2024-13782 Filed 6-21-24; 8:45 am]

BILLING CODE 9110-04-P